FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 012042-001.

Title: MOL / ELJSA Vessel Sharing Agreement.

Parties: Evergreen Lines Joint Service Agreement and Mitsui O.S.K. Lines, Ltd.

Filing Party: Robert B. Yoshitomi, Esq.; Nixon Peabody, LLP; Gas Company Tower; 555 West Fifth Street 46th Floor; Los Angeles, CA 90013.

Synopsis: The amendment expands the U.S. geographic scope to include ports in the range from Tacoma/Seattle, WA to Los Angeles, CA.

By Order of the Federal Maritime Commission.
Dated: January 30, 2009.
Karen V. Gregory,
Secretary.

[FR Doc. E9-2365 Filed 2-3-09; 8:45 am]

BILLING CODE 6730-01-P